DEPARTMENT OF THE INTERIOR

National Park Service

[NPS-WASO-NRNHL-10735; 2200-3200-665]

National Register of Historic Places; Notification of Pending Nominations and Related Actions

Nominations for the following properties being considered for listing or related actions in the National Register were received by the National Park Service before June 23, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by August 8, 2012. Before including your address, phone number, email address, or other personal identifying information in your comment, you should be aware that your entire comment—including your personal identifying information—may be made publicly available at any time. While you can ask us in your comment to withhold your personal identifying information from public review, we cannot guarantee that we will be able to do so.

Dated: June 29, 2012.
J. Paul Loether,
Chief, National Register of Historic Places/National Historic Landmarks Program.

CALIFORNIA

Sacramento County

Ashland Depot, 815 Leidesdorff St., Folsom, 12000471

KANSAS

Kingman County

Linwood Presbyterian Church and Home for Convalescent Employed Women, 1801 Linwood Blvd., & 3212 Michigan Ave., Kansas City, 12000472

MISSOURI

Jasper County

Joplin Furniture Company Building, (Historic Resources of Joplin, Missouri) 702-708 Main St., Joplin, 12000473

St. Louis County

North Taylor Avenue Historic District, (Kirkwood MPS) Roughly bounded by Manchester Rd., E. Adams, & N. Taylor Aves., Kirkwood, 12000474

NEW YORK

Erie County

American Grain Complex, (Buffalo Grain and Materials Elevator MPS) 87 Childs St., Buffalo, 12000475

Buffalo Meter Company Building, 2917 Main St., Buffalo, 12000476

Essex County

VERGENNES (canal boat), Address Restricted, Westport, 12000477

Herkimer County

Big Moose Community Chapel, 1544 Big Moose Rd., Eagle Bay, 12000478

Kings County

Wallabout Industrial Historic District, Clinton, Flushing, Grand, Park, Washington, & Waverly Aves., Hall, & Ryerson Sts., Brooklyn, 12000479

Onondaga County

St. Patrick's Church Complex, 216 N. Lowell Ave., Syracuse, 12000480

Schoharie County

First Presbyterian Church of Jefferson, Creamery St. at Park Ave., Jefferson, 12000481

Tioga County

Beecher, James C., House, 560 5th Ave., Owego, 12000482

OREGON

Coos County

Marshfield I.O.O.F. Cemetery, 750 Ingersoll Rd., Coos Bay, 12000483

Morrow County

Hardman I.O.O.F. Lodge Hall, 51186 OR 207, Hardman, 12000484

SOUTH DAKOTA

Hughes County

Pringle House, 102 N. Jefferson, Pierre, 12000485

Jones County

Weigandt Barn, 27285 Silver Valley Rd., Murdo, 12000486

Pennington County

Chapel in the Hills, 3788 Chapel Ln., Rapid City, 12000487

Golden Summit Mine Foreman's Cabin, 24085 Palmer Gulch Rd., Hill City, 12000488

TENNESSEE

Overton County

American Legion Bohannon Post #4, 121 S. Church St., Livingston, 12000489

WISCONSIN

Walworth County

Elkhorn Band Shell, Sunset Park, bounded by Devendorf, W. Centralia, & Park Sts., Elkhorn, 12000490

Elkhorn Municipal Building, 9 S. Broad St., Elkhorn, 12000491

A request for removal has been made for the following property:

SOUTH DAKOTA

Coddington County

Appleby Atlas Elevator, 6 mi. S of jct. of US 212 and I 29, Watertown, 90000957

[FR Doc. 2012-17971 Filed 7-23-12; 8:45 am]

BILLING CODE 4312-51-P